DEPARTMENT OF HEALTH AND HUMAN SERVICES

Administration for Children and Families

Submission for OMB Review; Comment Request

Title: Child Care and Development Fund Plan for States/Territories for FFY 2016-2018 (ACF-118).

OMB No.: 0970-0114.

Description: The Child Care and Development Fund (CCDF) Plan (the Plan) for States and Territories is required from each CCDF Lead agency in accordance with Section 658E of the Child Care and Development Block Grant Act of 1990, (CCDBG Act), as amended, CCDBG Act of 2014 (Pub. L. 113-186), and 42 U.S.C 9858. The Plan provides ACF and the public with a description of, and assurance about, the States' and Territories' child care programs. States must submit Plans to ACF on July 1, 2015 for approval in order to receive funding on October 1, 2015 for FY 2016.

The Office of Child Care (OCC) has revised the FY 2016-2018 Plan to align with the new program requirements made under the CCDBG Act of 2014, which was signed into law on November 19, 2014. The revised Plan (ACF-118) has been organized into eight critical areas:

• Define CCDF Leadership and Coordination with Relevant Systems

• Promote Family Engagement through Outreach and Consumer Education

• Provide Stable Child Care Financial Assistance to Families

• Ensure Equal Access to High Quality Child Care for Children in Low-Income Families

• Establish Standards and Monitoring Processes to Ensure the Health and Safety of Child Care Settings

• Recruit and Retain a Qualified and Effective Child Care Workforce

• Support Continuous Quality Improvement

• Ensure Grantee Accountability

In making the revisions, consideration was given to minimize the burden of the collection of information on respondents. The Plan, submitted on the ACF-118, is now required triennially, and will remain in effect for three years.

Due to the pending outcome of the CCDBG reauthorization bill, which was introduced in September and signed into law in November, the Office of Child Care (OCC) was unable to complete the regular Paperwork Reduction Act clearance process that calls for two Federal Register notices and comment periods. Given that OCC must consult with the CCDF administrators and the general public, and the limited amount of time before the States and Territories must submit their plans to ACF (July 1, 2015), the Office of Management and Budget (OMB) has granted OCC an emergency clearance of the FY 2016-2018 CCDF State/Territory Plan Preprint. This emergency clearance provides for a single 30-day comment period. Consistent with the statute and regulations, ACF requests revision of the ACF-118 to align with the requirements of the CCDBG Act of 2014. The Tribal Plan (ACF-118a) will be addressed under a separate notice.

Copies of the proposed collection may be obtained by writing to the Administration for Children and Families, Office of Administration, Office of Information Services, 370 L'Enfant Promenade SW., Washington, DC 20447, Attn: ACF Reports Clearance Officer. All requests should be identified by the title of the information collection. Email address: infocollection@acf.hhs.gov.

Respondents: State and Territory CCDF Lead Agencies (56).

Annual Burden Estimates
Instrument | Number of respondents | Number of responses per respondent | Average burden hours per response | Total burden hours
ACF-118 | 56 | 0.50 | 162.50 | 4,550

Estimated Total Annual Burden Hours: 4,550.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2015-01723 Filed 1-29-15; 8:45 am]

BILLING CODE 4184-01-P